DEPARTMENT OF HEALTH AND HUMAN SERVICES

National Institutes of Health

Submission for OMB Review; Comments Request Improving Media Coverage of Cancer: A Survey of Science and Health Reporters

Correction

In notice document 04-5542 beginning on page 11638 in the issue of Thursday, March 11, 2004, make the following correction:

On page 11638, in the second column, in the second paragraph, in the eighth line, “new media” should read “news media.”

[FR Doc. C4-5542 Filed 3-29-04; 8:45 am]

BILLING CODE 1505-01-D